DEPARTMENT OF AGRICULTURE

Commodity Credit Corporation

Information Collection: 2005-2006 Dairy Disaster Assistance Payment (DDAP-III) Program

AGENCY: Commodity Credit Corporation, USDA.

ACTION: Notice; request for comments.

SUMMARY: In accordance with the Paperwork Reduction Act of 1995 (PRA), the Commodity Credit Corporation (CCC) is seeking comments from all interested individuals and organizations on a currently approved information collection with revision associated with Dairy Disaster Assistance Payment (DDAP-III) Program. This collection is necessary to gather specific information from producers on their dairy production losses suffered in counties declared a natural disaster during the period of January 2, 2005, through February 27, 2007. The collection of information is to be used to establish eligibility and to determine payment amounts.

DATES: We will consider comments received by October 22, 2007.

ADDRESSES: We invite you to submit comments on this Notice. In your comment, include the volume, date, and page number of this issue of the Federal Register. You may submit comments by any of the following methods:

E-Mail: Send comments to: Danielle_Cooke@wdc.fsa.usda.gov.

Fax: (202) 690-1536.

Mail: Farm Service Agency, USDA, Attn: Grady Bilberry, Director, Price Support Division, Farm Service, USDA, FSA, STOP 0512, 1400 Independence Avenue, SW., Washington, DC 20250-0513.

Comments also should be sent to the Desk Officer for Agriculture, Office of Information and Regulatory Affairs, Office of Management and Budget, Washington, DC 20503.

FOR FURTHER INFORMATION CONTACT: Danielle Cooke, Special Program Manager, phone: (202) 720-1919, or Grady Bilberry, Director, Price Support Division, (202) 720-7901.

SUPPLEMENTARY INFORMATION:

Description of Information Collection

Title: 2005-2006 Dairy Disaster Assistance Payment Program.

OMB Control Number: 0560-0252.

Type of Request: Revision of a currently approved collection.

Abstract: Dairy operations are eligible to receive direct payments provided they make certifications that attest to their eligibility to receive such payments. As appropriate, these operations must certify and identify:

(1) That the dairy operation is physically located in a county declared a natural disaster after January 1, 2005 and before February 28, 2007 (that is the period of January 2, 2005 through February 27, 2007);

(2) the identity of actual persons associated with that operation during that period;

(3) the pounds of dairy production losses incurred as a result of the declared natural disaster;

(4) the number of cows in the dairy operation during the calendar year applicable to the disaster declaration;

(5) that they understand the dairy operation must provide adequate proof of annual milk production commercially marketed by all persons in the dairy operation during the period specified by the Commodity Credit Corporation (CCC) to determine the total pounds of eligible losses incurred by the operation.

The information collection is used by CCC to determine the program eligibility of the dairy operations. CCC considers the information collected essential to prudent eligibility determinations and payment calculations. The revision on the information collection covers only the dairy production losses this time, and the number of respondents increases in this information collection. Additionally, without accurate information on dairy operations, the national payment rate would be inaccurate, resulting in payments being made to ineligible recipients, and the integrity and accuracy of the program could be compromised.

Estimate of Burden: Public reporting burden for this collection of information is estimated to average 15 minutes (.25 hour) per response. The average travel time, which is included in the total annual burden, is estimated to be 1 hour per respondent.

Respondents: Dairy Operations.

Estimated Number of Respondents: 40,000.

Estimated Number of Responses per Respondent: 1.

Estimated Total Annual Burden on Respondents: 35,250 hours.

Comments

Comments are invited on:

(1) Whether this collection information is necessary for the proper performance of the functions of the agency, including whether the information will have practical utility;

(2) the accuracy of the agency's estimate of burden, including the validity of the methodology and assumptions used;

(3) ways to enhance the quality, utility, and clarity of the information to be collected; and

(4) ways to minimize the burden of the collection of the information on those who are to respond, including the use of appropriate automated, electronic, mechanical, or other technological collection techniques or other forms of information technology.

All comments received in response to this notice, including names and addresses when provided, will be a matter of public records. Comments will be summarized and included in the submission for Office of Management and Budget approval. OMB is required to make a decision concerning the collection of information contained in the proposed regulations between 30 and 60 days after publication of this document in the Federal Register. Therefore, a comment to OMB is best assured of having its full effect if OMB receives it within 30 days of publication.

Signed at Washington, DC, on August 16, 2007.
Glen L. Keppy,
Acting Executive Vice President, Commodity Credit Corporation, Administrator, Farm Service Agency.

[FR Doc. E7-16671 Filed 8-22-07; 8:45 am]

BILLING CODE 3410-05-P